DEPARTMENT OF THE INTERIOR

Office of the Secretary

[DOI-2018-0004; 18XD4523WC DS68644000 DWCHF0000.000000 DQ.FPPJB.18000000]

Privacy Act of 1974; System of Records

AGENCY: Office of the Secretary, Interior.

ACTION: Notice of a modified system of records.

SUMMARY: Pursuant to the provisions of the Privacy Act of 1974, as amended, the Department of the Interior proposes to modify the Department of the Interior system of records titled, “Payroll, Attendance, Retirement, and Leave Records—Interior, DOI-85.” This system of records allows the Department of the Interior to manage human resources and payroll functions; ensure proper payment for salary and benefits; track time worked, leave, or other absences for reporting and compliance purposes; and meet regulatory requirements such as specialized pay, garnishments, and special appointment programs. The Department of the Interior is updating this system of records notice to (1) add new proposed routine uses, (2) modify existing routine uses to provide clarification, (3) modify the categories of records and categories of individuals covered by the system, and (4) update system location, authority for maintenance of the system, storage, retrievability, safeguards, retention and disposal, system manager and address, notification procedures, records access and contesting procedures, and records source categories. This modified system will be included in the Department of the Interior's inventory of record systems.

DATES: This modified system will be effective upon publication. New or modified routine uses will be effective August 20, 2018. Submit comments on or before August 20, 2018.

ADDRESSES: You may submit comments, identified by docket number DOI-2018-0004, by any of the following methods:

• Federal e-Rulemaking Portal: http://www.regulations.gov. Follow the instructions for submitting comments.

• Mail: Teri Barnett, Departmental Privacy Officer, U.S. Department of the Interior, 1849 C Street NW, Room 7112, Washington, DC 20240.

• Hand-delivering comments to Teri Barnett, Departmental Privacy Officer, U.S. Department of the Interior, 1849 C Street NW, Room 7112, Washington, DC 20240.

• Email: DOI_Privacy@ios.doi.gov.

All submissions received must include the agency name and docket number. All comments received will be posted without change to http://www.regulations.gov, including any personal information provided.

FOR FURTHER INFORMATION CONTACT: Teri Barnett, Departmental Privacy Officer, U.S. Department of the Interior, 1849 C Street NW, Room 7112, Washington, DC 20240, email at DOI_Privacy@ios.doi.gov or by telephone at (202) 208-1605.

SUPPLEMENTARY INFORMATION:

I. Background

The Department of the Interior (DOI), Interior Business Center (IBC) maintains the “Payroll, Attendance, Retirement, and Leave Records—Interior, DOI-85” system of records. This system helps DOI manage human resources and payroll functions; ensure proper payment for salary and benefits; track time worked, leave, or other absences for reporting and compliance purposes; and meet regulatory requirements such as specialized pay, garnishments, and special appointment programs. DOI uses the integrated Federal Personnel and Payroll System (FPPS) and supporting systems to manage these payroll, time and attendance, and human capital management functions, meet regulatory requirements, and prepare reports to other Federal agencies including the Department of the Treasury and the Office of Personnel Management. The DOI payroll, attendance, retirement, and leave records described in this system of records notice form a part of the information contained in FPPS. Some personnel records contained in the FPPS may be covered under OPM/GOVT-1, General Personnel Records, the government-wide system of records notice published by the Office of Personnel Management.

The DOI IBC is a Federal agency shared services provider that provides payroll and personnel processing services to internal and external customers, including its bureaus and offices and other Federal agency customers, through FPPS and its supporting systems. FPPS creates and generates the full life cycle of personnel transactions; allows for edits and updates of personnel and payroll data; and manages the regulatory requirements. Federal agency customers enter into agreements with the DOI IBC to host customer payroll and personnel data in the FPPS, and process payroll and personnel transactions on the customer's behalf. FPPS has interconnections with other Federal agencies; private organizations; Federal agency customers; state, city and county governments; and IBC internal systems that allow IBC to perform required transactions to fulfill its responsibilities to process payroll, personnel actions, and related functions.

Although DOI hosts and processes payroll and personnel transactions on behalf of IBC customers, each customer retains ownership and control over its own records and is responsible for meeting requirements under the Privacy Act for the collection, maintenance and sharing of their records. Federal agency customers have published their own system of records notices for their employees' payroll and personnel related records hosted or processed by DOI. Individuals seeking access to, notification or correction of their records owned and maintained by external Federal agency customers must submit their requests to the employing Federal agency customer that owns the records in accordance with the applicable system of records notice published by that Federal agency customer.

DOI is publishing this revised notice to reorganize the sections and update section titles in accordance with Office of Management and Budget (OMB) Circular A-108; describe the purpose of the system; and provide general and administrative updates to the system location, categories of individuals covered by the system, categories of records in the system, authority for maintenance of the system, storage, retrievability, safeguards, retention and disposal, system manager and address, notification procedures, records access and contesting procedures, and records source categories sections. Additionally, DOI is modifying existing routine uses to provide clarity and transparency. Routine use A was modified to further clarify disclosures to the Department of Justice or other Federal agencies when necessary in relation to litigation or judicial proceedings. Routine uses B, C, K, N, O, V, W, Z, EE, and GG have been modified to provide additional clarification on external organizations and circumstances where disclosures are proper and necessary to facilitate payroll and personnel functions or to comply with Federal requirements.

DOI is proposing to add new routine uses HH through UU to facilitate sharing of information with agencies and organizations to ensure the efficient and effective management of personnel data and proper payment of salary and benefits for employees, promote the integrity of the records in the system, or carry out a statutory responsibility of the DOI or the Federal Government. Proposed routine use HH facilitates sharing of information with the Executive Office of the President to resolve issues concerning individual's records. Routine use II facilitates payroll and personnel functions under a cross-servicing agreement with other Federal agencies. Routine use JJ allows sharing of information to effectively manage Federal personnel functions related to complaints, claims and appeals initiated by employees. Routine use KK facilitates sharing of information to process or reconcile employees' unemployment claims, benefits, and related functions. Routine use LL facilitates sharing of information with carriers to process or reconcile survivor annuity or health benefits claims. Routine use MM allows DOI to share information to resolve issues or errors that may affect pay and leave in order to ensure an individual's personnel and payroll data is processed accurately. Routine use NN ensures the efficient and effective conduct of the Federal Government, to meet statutory obligations to ensure integrity during the administration of benefits programs, eligibility for Federally-funded or administered benefit programs, tax administration, and to prevent fraud or attempted fraud. Routine use OO facilitates sharing of information with Congress in its oversight role to help improve performance and ensure accountability of the Federal Government and to meets its constitutional responsibilities. Routine use PP allows sharing of wage information with the Department of Health and Human Services as required under the Personal Responsibility and Work Opportunity Reconciliation Act of 1996. Routine uses QQ and RR allow DOI to share information with appropriate Federal agencies or entities when reasonably necessary to respond to a breach of personally identifiable information and to prevent, minimize, or remedy the risk of harm to individuals or the Federal Government, or assist an agency in locating individuals affected by a breach in accordance with OMB Memorandum M-17-12, “Preparing for and Responding to a Breach of Personally Identifiable Information.” Routine use SS allows organizations authorized and required by law to perform audits or oversight operations to ensure accurate and effective personnel and payroll functions, proper payment for salary and benefits. Routine uses TT and UU allow sharing of information with a court, grand jury, tribunal, or other administrative or adjudicative body for the resolution of any legal dispute involving records in the system.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or an alien lawfully admitted for permanent residence. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The revised Payroll, Attendance, Retirement, and Leave Records system of records notice is published in its entirety below. In accordance with 5 U.S.C. 552a(r), DOI has provided a report of this modified system of records to the Office of Management and Budget and to Congress.

III. Public Participation

You should be aware your entire comment including your personal identifying information, such as your address, phone number, email address, or any other personal identifying information in your comment, may be made publicly available at any time. While you may request to withhold your personal identifying information from public review, we cannot guarantee we will be able to do so.

Teri Barnett,
Departmental Privacy Officer.

SYSTEM NAME AND NUMBER

INTERIOR/DOI-85, Payroll, Attendance, Retirement, and Leave Records.

SECURITY CLASSIFICATION:

Unclassified.

SYSTEM LOCATION:

(1) The INTERIOR/DOI-85, Payroll, Attendance, Retirement, and Leave Records system of records is centrally managed by the Personnel and Payroll Systems Division, Interior Business Center, U.S. Department of the Interior, 7301 West Mansfield Avenue, MS D-2400, Denver, CO 80235-2230.

(2) Records are also located at Departmental, bureau and office systems and locations that prepare and provide input documents and information for data processing and administrative actions for this system.

SYSTEM MANAGER(S):

Chief, Personnel and Payroll Systems Division, Interior Business Center, U.S. Department of the Interior, 7301 West Mansfield Avenue, Denver, CO 80235-2230.

AUTHORITY FOR MAINTENANCE OF THE SYSTEM:

5 U.S.C. 5101, et seq., Government Organization and Employees; 31 U.S.C. 3512, et seq., Executive Agency Accounting and Other Financial Management Reports and Plans; 31 U.S.C. 1101, et seq., the Budget and Fiscal, Budget, and Program Information; 5 CFR part 293, subpart B, Personnel Records Subject to the Privacy Act; 5 CFR part 297, Privacy Procedures for Personnel Records; Executive Order 9397 as amended by Executive Order 13478, relating to Federal agency use of Social Security numbers; and Public Law 101-576 (Nov. 15, 1990), the Chief Financial Officers (CFO) Act of 1990.

PURPOSE(S) OF THE SYSTEM:

The primary purpose of the system is to manage personnel and payroll functions, to ensure proper payment for salary and benefits, track time and attendance, leave, and other absences for reporting and compliance purposes; and facilitate reporting requirements to other Federal agencies, including the Department of the Treasury and the Office of Personnel Management, for payroll, tax, and human capital management purposes.

CATEGORIES OF INDIVIDUALS COVERED BY THE SYSTEM:

Individuals covered by the system include current and former DOI employees, emergency workers, volunteers, contractors, and applicants for Federal employment. This system may also include limited information regarding employee spouses, dependents, emergency contacts, beneficiaries, or estate trustees who meet the definition of “individual” as defined in the Privacy Act.

CATEGORIES OF RECORDS IN THE SYSTEM:

This system maintains records including:

• Employee biographical and employment information: Employee name, other names used, citizenship, gender, date of birth, age, group affiliation, marital status, Social Security number (SSN), truncated SSN, legal status, place of birth, records related to position, occupation, duty location, security clearance, financial information, medical information, disability information, education information, driver's license, race, ethnicity, personal or work telephone number, personal or work email address, military status and service, home or mailing address, Taxpayer Identification Number (TIN), bank account information, professional licensing and credentials, family relationships, involuntary debt (garnishments or child support payments), employee common identifier (ECI), organization code, user identification and any other employment information.

• Third-party information: Spouse information, emergency contact, beneficiary information, savings bond co-owner name(s) and information, and family members and dependents information.

• Salary and benefits information: Salary data, retirement data, tax data, deductions, health benefits, allowances, union dues, insurance data, Flexible Spending Account, Thrift Savings Plan information and contributions, pay plan, payroll records, awards, court order information, back pay information, debts owed to the government as a result of overpayment, refunds owed, or a debt referred for collection on a transferred employee or emergency worker.

• Timekeeping information: Time and attendance records, and leave records.

This system may also contain correspondence, documents and other information required to administer payroll, leave, and related functions.

RECORD SOURCE CATEGORIES:

Information is obtained from individuals on whom the records are maintained, official personnel records of individuals on whom the records are maintained, supervisors, timekeepers, previous employers, the Internal Revenue Service and state tax agencies, the Department of the Treasury, other Federal agencies, courts, state child support agencies, employing agency accounting offices, and third-party benefit providers.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information maintained in this system may be disclosed to authorized entities outside DOI for purposes determined to be relevant and necessary as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To the Department of the Treasury or other Federal agency as required for payroll purposes, for preparation of payroll and other checks and electronic funds transfers to Federal, State, and local government agencies, non-governmental organizations, and individuals.

C. To the Department of the Treasury, Internal Revenue Service, and state and local tax authorities for which an employee is or was subject to tax regardless of whether tax is or was withheld in accordance with Treasury Fiscal Requirements, as required.

D. To the Office of Personnel Management or its contractors in connection with programs administered by that office, including, but not limited to, the Federal Long Term Care Insurance Program, the Federal Dental and Vision Insurance Program, the Flexible Spending Accounts for Federal Employees Program, and the electronic Human Resources Information Program.

E. To another Federal agency to which an employee or DOI emergency worker has transferred or to which a DOI volunteer transfers in a volunteer capacity.

F. To any criminal, civil, or regulatory law enforcement authority (whether Federal, state, territorial, local, tribal or foreign) when a record, either alone or in conjunction with other information, indicates a violation or potential violation of law—criminal, civil, or regulatory in nature.

G. To a congressional office in response to a written inquiry that an individual covered by the system, or the heir of such individual if the covered individual is deceased, has made to the office.

H. To Federal, State or local agencies where necessary to enable the employee's, DOI emergency worker's, or DOI volunteer's agency to obtain information relevant to the hiring or retention of that employee, DOI emergency worker, or DOI volunteer, or the issuance of a security clearance, contract, license, grant or other benefit.

I. To appropriate Federal and state agencies to provide reports including data on unemployment insurance.

J. To the Social Security Administration to credit the employee or emergency worker account for Old-Age, Survivors, and Disability Insurance (OASDI) and Medicare deductions.

K. To officials of labor organizations recognized under 5 U.S.C. Chapter 71 (Labor-Management Relations) for the purpose of providing information as to the identity of DOI employees contributing union dues each pay period and the amount of dues withheld from each contributor.

L. To employee or emergency worker associations to report dues deductions.

M. To insurance carriers to report employee or DOI emergency worker election information and withholdings for health insurance.

N. To charitable institutions when an employee designates an institution to receive contributions through salary deduction.

O. To the Department of the Treasury, Internal Revenue Service, or to another Federal agency or its contractor, to disclose debtor information solely to aggregate information for the Internal Revenue Service to collect debts owed to the Federal Government through the offset of tax refunds.

P. To any creditor Federal agency seeking assistance for the purpose of that agency implementing administrative or salary offset procedures in the collection of unpaid financial obligations owed the United States Government from an individual.

Q. To any Federal agency where the individual debtor is employed or receiving some form of remuneration for the purpose of enabling that agency to collect debts on the employee's behalf by administrative or salary offset procedures under the provisions of the Debt Collection Act of 1982.

R. To the Department of the Treasury, Internal Revenue Service, and state and local authorities for the purpose of locating a debtor to collect a claim against the debtor.

S. With respect to Bureau of Indian Affairs employee or DOI emergency worker records, to a Federal, State, local agency, or Indian tribal group or any establishment or individual that assumes jurisdiction, either by contract or legal transfer, of any program under the control of the Bureau of Indian Affairs.

T. With respect to Bureau of Reclamation employee or DOI emergency worker records, to non-Federal auditors under contract with DOI or the Department of Energy or water user and other organizations with which the Bureau of Reclamation has written agreements permitting access to financial records to perform financial audits.

U. To the Federal Retirement Thrift Investment Board's record keeper, which administers the Thrift Savings Plan, to report deductions, contributions, and loan payments.

V. To the Office of Child Support Enforcement, Administration for Children and Families, Department of Health and Human Services, for the purposes of locating individuals to establish paternity; establishing and modifying orders of child support; identifying sources of income; and for other child support enforcement actions as required by the Personal Responsibility and Work Opportunity Reconciliation Act of 1996.

W. To an expert, consultant, grantee, or contractor (including employees of the contractor) of DOI that performs services requiring access to these records on DOI's behalf to carry out the purposes of the system, including employment verifications, unemployment claims, W-2 processing services, leave and earning statements, and 1095-C Affordable Care Act statements.

X. To the Office of Personnel Management Employee Express, which is an employee self-service system, to initiate personnel and payroll actions and to obtain payroll information.

Y. To the Department of Labor for processing claims for employees, emergency workers, or volunteers injured on the job or claiming occupational illness.

Z. To Federal agencies and organizations to support interfaces with other systems operated by the Federal agencies for which the employee or DOI emergency worker is employed, or the DOI volunteer is located, for the purpose of avoiding duplication, increasing data integrity and streamlining government operations.

AA. To another Federal agency to provide information needed in the performance of official duties related to reconciling or reconstructing data files or to enable that agency to respond to an inquiry by the individual to whom the record pertains.

BB. To the National Archives and Records Administration (NARA) to conduct records management inspections under the authority of 44 U.S.C. 2904 and 2906.

CC. To the Office of Management and Budget (OMB) during the coordination and clearance process in connection with legislative affairs as mandated by OMB Circular A-19.

DD. To Federal, state, territorial, local, tribal, or foreign agencies that have requested information relevant or necessary to the hiring, firing or retention of an employee or contractor, regarding the issuance of a security clearance, license, contract, grant or other benefit.

EE. To state, territorial, and local governments, and tribal organizations to provide information needed in response to court order and/or discovery purposes related to litigation, when the disclosure is compatible with the purpose for which the records were compiled.

FF. To the Department of the Treasury to recover debts owed to the United States.

GG. To the news media and the public, with the approval of the Public Affairs Officer in consultation with counsel and the Senior Agency Official for Privacy, where there exists a legitimate public interest in the disclosure of the information or when disclosure is necessary to preserve confidence in the integrity of DOI or is necessary to demonstrate the accountability of DOI's officers, employees, or individuals covered by the system, except to the extent it is determined that release of the specific information in the context of a particular case would constitute an unwarranted invasion of personal privacy.

HH. To the Executive Office of the President in response to an inquiry from that office made at the request of the subject of a record or a third party on that person's behalf, or for a purpose compatible with the reason for which the records are collected or maintained.

II. To other Federal agencies and organizations to provide payroll and personnel processing services under a shared service provider cross-servicing agreement for purposes relating to DOI payroll and personnel processing.

JJ. To the Office of Personnel Management, the Merit System Protection Board, Federal Labor Relations Authority, or the Equal Employment Opportunity Commission when requested in the performance of their authorized duties.

KK. To state offices of unemployment compensation to assist in processing an individual's unemployment, survivor annuity, or health benefit claim, or for records reconciliation purposes.

LL. To Federal Employees' Group Life Insurance or Health Benefits carriers in connection with survivor annuity or health benefits claims or records reconciliations.

MM. To any source from which additional information is requested by DOI relevant to a DOI determination concerning an individual's pay, leave, or travel expenses, to the extent necessary to identify the individual, inform the source of the purpose(s) of the request, and to identify the type of information requested.

NN. To the Social Security Administration and the Department of the Treasury to disclose pay data on an annual basis, and as necessary to execute their statutory responsibilities for the effective administration of benefits programs, payroll and taxes.

OO. To a Federal agency or in response to a congressional inquiry when additional or statistical information is requested relevant to a Federal benefit or program, such as the DOI Transit Fare Subsidy Program.

PP. To the Department of Health and Human Services for the purpose of providing information on new hires and quarterly wages as required under the Personal Responsibility and Work Opportunity Reconciliation Act of 1996.

QQ. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

RR. To another Federal agency or Federal entity, when DOI determines that information from this system of records is reasonably necessary to assist the recipient agency or entity in:

(1) Responding to a suspected or confirmed breach; or

(2) preventing, minimizing, or remedying the risk of harm to individuals, the recipient agency or entity (including its information systems, programs, and operations), the Federal Government, or national security, resulting from a suspected or confirmed breach.

SS. To an agency or organization for the purpose of performing audit or oversight operations as authorized by law, but only such information as is necessary and relevant to such audit or oversight function.

TT. To a court, magistrate, or administrative tribunal, including disclosures to opposing counsel in the course of discovery, pursuant to appropriate court order or other judicial process in the course of criminal, civil or administrative litigation.

UU. In an appropriate proceeding before a court, grand jury, or administrative or adjudicative body, when the Department of Justice determines that the records are arguably relevant to the proceeding; or in an appropriate proceeding before an administrative or adjudicative body when the adjudicator determines the records to be relevant to the proceeding.

DISCLOSURE TO CONSUMER REPORTING AGENCIES:

Disclosure pursuant to 5 U.S.C. 552a(b)(12). Disclosures may be made from this system to consumer reporting agencies as defined in the Fair Credit Reporting Act (15 U.S.C. 1681a(f)) or the Federal Claims Act of 1966 (31 U.S.C. 3701(a)(3)).

POLICIES AND PRACTICES FOR STORAGE OF RECORDS:

Records are maintained in manual, microfilm, microfiche, electronic, imaged and computer printout form. Original input documents are stored in standard office filing equipment and/or as imaged documents on magnetic media at all locations which prepare and provide input documents and information for data processing. Paper records are maintained in file folders stored within locking filing cabinets or locked rooms in secured facilities with controlled access. Electronic records are stored in computers, removable drives, storage devices, electronic databases, and other electronic media under the control of DOI.

POLICIES AND PRACTICES FOR RETRIEVAL OF RECORDS:

Records may be retrieved by employee name, SSN, TIN, ECI, birth date, organizational code, or assigned person number.

POLICIES AND PRACTICES FOR RETENTION AND DISPOSAL OF RECORDS:

Records are maintained in accordance with General Records Schedule (GRS) 1.0 “Finance” and GRS 2.0 “Human Resources,” and Departmental Records Schedule (DRS) 1.2C, Retirement and Payroll Records Warranting Extended Preservation (DAA-0048-2013-0001-0008), which are approved by NARA. The system generally maintains temporary records, and retention periods vary based on the type of record under each item and the needs of the agency. Paper records are disposed of by shredding or pulping, and records maintained on electronic media are degaussed or erased in accordance with the applicable records retention schedule and NARA guidelines.

ADMINISTRATIVE, TECHNICAL, AND PHYSICAL SAFEGUARDS:

The records maintained in this system are safeguarded in accordance with 43 CFR 2.226 and other applicable security rules and policies. During normal hours of operation, paper or micro format records are maintained in locked file cabinets in secured rooms under the control of authorized personnel. Information technology systems follow the National Institute of Standards and Technology privacy and security standards developed to comply with the Privacy Act of 1974 as amended, 5 U.S.C. 552a; the Paperwork Reduction Act of 1995, Public Law 104-13; the Federal Information Security Modernization Act of 2014, Public Law 113-283, as codified at 44 U.S.C. 3551, et seq.; and the Federal Information Processing Standard 199, Standards for Security Categorization of Federal Information and Information Systems.

Computer servers on which electronic records are stored are located in secured DOI facilities with physical, technical and administrative levels of security to prevent unauthorized access to the DOI network and information assets. Security controls include encryption, firewalls, audit logs, and network system security monitoring. Electronic data is protected through user identification, passwords, database permissions and software controls. Access to records in the system is limited to authorized personnel who have a need to access the records in the performance of their official duties, and each person's access is restricted to only the functions and data necessary to perform that person's job responsibilities. System administrators and authorized users for DOI are trained and required to follow established internal security protocols and must complete all security, privacy, and records management training, and sign DOI Rules of Behavior. A Privacy Impact Assessment was completed for FPPS to ensure that Privacy Act requirements and personally identifiable information safeguard requirements are met, and may be viewed at https://www.doi.gov/privacy/pia.

RECORD ACCESS PROCEDURES:

An individual requesting records on himself or herself should send a signed, written inquiry to the applicable System Manager identified above. The request must include the requester's bureau and office affiliation to facilitate location of the applicable records. The request envelope and letter should both be clearly marked “PRIVACY ACT REQUEST FOR ACCESS.” A request for access must meet the requirements of 43 CFR 2.238.

CONTESTING RECORD PROCEDURES:

An individual requesting corrections or the removal of material from his or her records should send a signed, written request to the applicable System Manager identified above. The request must include the requester's bureau and office affiliation to facilitate location of the applicable records. A request for corrections or removal must meet the requirements of 43 CFR 2.246.

NOTIFICATION PROCEDURES:

An individual requesting notification of the existence of records on himself or herself should send a signed, written inquiry to the applicable System Manager as identified above. The request must include the requester's bureau and office affiliation to facilitate location of the applicable records. The request envelope and letter should both be clearly marked “PRIVACY ACT INQUIRY.” A request for notification must meet the requirements of 43 CFR 2.235.

EXEMPTIONS PROMULGATED FOR THE SYSTEM:

None.

HISTORY:

73 FR 19090 (April 8, 2008).

[FR Doc. 2018-15445 Filed 7-18-18; 8:45 am]

BILLING CODE 4334-63-P